DEPARTMENT OF THE INTERIOR

Fish and Wildlife Service

[FWS-R5-R-2015-N228; BAC-4333-99]

Monomoy National Wildlife Refuge; Barnstable County, MA; Record of Decision for Final Environmental Impact Statement

AGENCY: Fish and Wildlife Service, Interior.

ACTION: Notice of availability; record of decision and comprehensive conservation plan.

SUMMARY: We, the U.S. Fish and Wildlife Service (Service), announce the availability of the record of decision (ROD) and final comprehensive conservation plan (CCP) for Monomoy National Wildlife Refuge (NWR). We prepared the ROD pursuant to the National Environmental Policy Act of 1969 (NEPA) and its implementing regulations. The Service is furnishing this notice to advise the public and other agencies of our decision and of the availability of the ROD and CCP.

DATES: The ROD was signed on March 18, 2016.

ADDRESSES: You may view or obtain copies of the final CCP and ROD by any of the following methods.

Agency Web site: Download a copy of the document at http://www.fws.gov/refuge/Monomoy/what_we_do/conservation.html.

Email: Send requests to libby_herland@fws.gov; include “Monomoy NWR CCP” in the subject line of your email.

U.S. Mail: Elizabeth A. Herland, Project Leader, Eastern Massachusetts NWR Complex, 73 Weir Hill Road, Sudbury, MA 01776.

In-Person Viewing or Pickup: Visit during regular business hours at Eastern Massachusetts NWR Complex (see address above), or at Monomoy NWR, 30 Wikis Way, Chatham, MA 02633.

FOR FURTHER INFORMATION CONTACT: Elizabeth A. Herland, Project Leader, Eastern Massachusetts NWR Complex, 73 Weir Hill Road, Sudbury, MA 01776; 978-443-4661 ext. 11 (phone); libby_herland@fws.gov (email).

SUPPLEMENTARY INFORMATION:

Introduction

With this notice, we finalize the CCP process for Monomoy NWR. We officially began this process through a notice of intent in the Federal Register (64 FR 9166) on February 24, 1999. That notice announced our intent to prepare one CCP for all eight refuges in the Eastern Massachusetts NWR Complex, including Monomoy NWR. In two subsequent notices in the Federal Register, published on February 15, 2001 (66 FR 10506), and December 13, 2004 (69 FR 72210), we explained our intent to reorganize our CCP planning effort for the eight refuges, including Monomoy NWR. For more information on the early planning process history, see the December 13, 2004, notice. On April 10, 2014, we announced the release of the draft CCP/Environmental Impact Statement (EIS) to the public and requested comments in a notice of availability (NOA) in the Federal Register (79 FR 19920). We subsequently extended the public comment period on the draft document in another notice in the Federal Register (79 FR 36553) on June 27, 2014. We released the final CCP/EIS for public review on October 30, 2015 (80 FR 66928). In addition, the Environmental Protection Agency (EPA) published Federal Register notices announcing the availability of our draft and final CCP/EIS coincident with our notices as required under Section 309 of the Clean Air Act (42 U.S.C. 7401 et seq.). EPA's notice of availability of the draft CCP/EIS was published on April 18, 2014, and EPA's notice of the final document was published on November 6, 2015.

In the draft and final CCP/EIS, we evaluated three alternatives for managing the refuge and completed a thorough analysis of the environmental, social, and economic considerations of each alternative. Alternative B was identified as the Service-preferred alternative in both draft and final documents. Based on comments we received during the public review period for the draft CCP/EIS, we made several modifications to alternative B in the final CCP/EIS. All substantive issues were addressed through revisions made to text in the final CCP/EIS, or in our responses to comments contained in appendix K of final CCP/EIS. None of the comments received on the final CCP/EIS raised significant new issues, nor require significant changes to either alternative B or our analysis of impacts. All substantive comments were previously addressed in appendix K. However, in response to some of the final CCP/EIS comments, we felt we should clarify our intent for certain management strategies in the CCP. Those clarifications are detailed in the ROD.

In accordance with NEPA (40 CFR 1506.6(b)) requirements, this notice announces the availability of the ROD and final CCP for Monomoy NWR, which further detail our decision to select alternative B for implementation. The final CCP will guide our management and administration of the refuges over the next 15 years.

Background

The National Wildlife Refuge System Administration Act of 1966 (16 U.S.C. 668dd-668ee) (Refuge Administration Act), as amended by the National Wildlife Refuge System Improvement Act of 1997, requires us to develop a CCP for each NWR. The purpose for developing a CCP is to provide refuge managers with a 15-year plan for achieving refuge purposes and goals and contributing to the mission of the National Wildlife Refuge System (Refuge System). CCPs should be consistent with sound principles of fish and wildlife management, conservation, legal mandates, and our policies, as well as respond to key issues and public concerns. In addition to outlining broad management direction on conserving wildlife and their habitats, CCPs identify wildlife-dependent recreational opportunities available to the public, including opportunities for hunting, fishing, wildlife observation and photography, and environmental education and interpretation. We will review and update the CCP at least every 15 years, in accordance with the Refuge Administration Act.

CCP Alternatives

During the scoping phase of the planning process, we identified a variety of issues and concerns based on input from the public; town of Chatham, Massachusetts, officials; State or Federal agencies; other Service programs; and our planning team. We developed refuge management alternatives to address these issues and local community concerns; help achieve refuge goals, objectives, and purposes; and support the Refuge System mission. Our draft CCP/EIS (79 FR 19920) and final CCP/EIS (80 FR 66928) fully analyze three alternatives for the future management of the refuge: (1) Alternative A, Current Management; (2) Alternative B, Enhanced Management of Habitat and Public Uses; and (3) Alternative C, Natural Processes. Alternative A satisfies the NEPA requirement of a “No Action” alternative. Both the draft and final plans identify alternative B as the Service-preferred alternative. Please refer to the final CCP/EIS for more details on each of the alternatives.

Basis for Selected Alternative

Our decision is to adopt alternative B, as described in the final CCP/EIS. We provide a brief summary of our decision below. For the full basis of our decision, please see the ROD (see ADDRESSES).

This decision to adopt alternative B for implementation was made after considering the follow factors: (1) How well the alternative achieves the stated purpose and need for a CCP and the six goals presented in chapter 1 of the final CCP/EIS; (2) How well the alternative addresses the relevant issues, concerns, and opportunities identified in the planning process and summarized in chapter 1 of final CCP/EIS; (3) The results of public, partner, town of Chatham, Federal and State agency, and other stakeholder comments on the draft and final CCP/EISs; (4) The projected impacts identified in chapter 4 of the final CCP/EIS; and, (5) Other relevant factors, including fulfilling the purposes for which the refuge was established, contributing to the mission and goals of the Refuge System and National Wilderness Preservation System, and statutory and regulatory guidance.

Compared to the other two alternatives, alternative B includes the suite of actions that best meet the factors above, using the most balanced, reasonable, practicable, and integrated approach, and with due consideration for impacts on both the biological and human environment. The refuge's establishment purposes emphasize the conservation of migratory birds and the protection of wilderness character and values; thus, protecting those resources on Monomoy NWR is paramount. Alternative B will best fulfill the refuge's biological goal by managing for migratory birds and other Federal trust species and habitats that are of national and regional conservation concern. Under alternative B, there is clear direction under goal 1, establishing which Federal trust species will be a management priority in each of the habitat types. The objectives and strategies under goal 1 further establish the priority actions we will pursue to achieve this goal.

Under alternative B, the objectives and strategies under goal 4 best ensure wilderness resource protection and management will be achieved over the long term. Alternative B also increases inventory and monitoring efforts to help evaluate the effectiveness of our actions and to ensure our management into the future is adaptive and strategic, including considerations of the impacts of climate change. Alternative B, under goal 2, is best at promoting wildlife-dependent recreation on the refuge, with additional opportunities for our six priority public uses: Hunting, fishing, wildlife observation, wildlife photography, environmental education, and interpretation. These programs will provide high-quality experiences for our visitors while providing sufficient protection for wildlife and wilderness resources. However, we have also determined that there are some activities of interest to the public that are inappropriate and not compatible with resource protection and will not be allowed. Our rationale for allowing certain activities, and not allowing others, is detailed in appendix D.

Alternative B best recognizes how important Monomoy NWR is to the local community and the larger social and economic region of the Outer Cape. It includes strategies for improving communications and coordination with the town of Chatham; State fish, wildlife, and marine agency officials; and the National Park Service; these entities collectively represent the other entities with management authority in the area surrounding the refuge. Goal 3 and its objectives and strategies also specifically identify actions to improve outreach and engagement within the local community, and to increase appreciation and enjoyment of the refuge.

Alternative B complies with all major Federal laws that apply to this type of Federal action. The final CCP/EIS was developed to comply with NEPA. The CCP/EIS was developed with sufficient detail to account for the greatest potential impacts that could result from proposed actions identified under all alternatives. However, additional NEPA analysis will be necessary for certain types of actions, even once we adopt a final CCP. We identified some of the actions we anticipate will require further NEPA analysis and public involvement in chapter 3 of the final CCP/EIS. Appendix M in the CCP includes documentation of compliance with the Coastal Zone Management Act (Public Law 92-583, as amended); Endangered Species Act (Public Law 93-205, as amended); and National Historic Preservation Act (Public Law 89-665).

In summary, we selected alternative B for implementation because it best meets the factors identified above when compared to alternatives A and C. Alternative B provides the greatest number of opportunities for Monomoy NWR to contribute to the conservation of fish, wildlife, habitat, and wilderness resources at local, regional, and national levels. It will also increase our capacity to meet refuge purposes, contribute to the Refuge System mission, and enhance visitor use and enjoyment, and it will provide the means to better respond to changing ecological conditions within the surrounding environment.

Public Availability of Documents

You can view or obtain the final CCP and ROD as indicated under ADDRESSES.

Dated: March 23, 2016.
Kenneth Elowe,
Acting Regional Director, Northeast Region, U.S. Fish and Wildlife Service.

[FR Doc. 2016-07158 Filed 3-30-16; 8:45 am]

BILLING CODE 4333-15-P